ENVIRONMENTAL PROTECTION AGENCY

40 CFR Part 300

[EPA-HQ-SFUND-2003-0009; FRL-9911-82-Region 10]

National Oil and Hazardous Substances Pollution Contingency Plan; National Priorities List: Deletion of the Harbor Oil Superfund Site

AGENCY: Environmental Protection Agency.

ACTION: Final rule.

SUMMARY: The Environmental Protection Agency (EPA) Region 10 announces the deletion of the Harbor Oil Superfund Site (Site) located at 11535 North Force Avenue in Portland, Oregon, from the National Priorities List (NPL). The NPL, promulgated pursuant to section 105 of the Comprehensive Environmental Response, Compensation, and Liability Act (CERCLA) of 1980, as amended, is an appendix of the National Oil and Hazardous Substances Pollution Contingency Plan (NCP). The EPA and the State of Oregon, through the Department of Environmental Quality have determined that all appropriate response actions under CERCLA have been completed. However, this deletion does not preclude future actions under Superfund.

DATES: Effective Date: This action is effective June 5, 2014.

ADDRESSES: EPA has established a docket for this action under Docket Identification No. EPA-HQ-SFUND-2003-0009. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

EPA Superfund Records Center

1200 6th Ave., 7th floor, Seattle, WA 98101-3140 and:

Historic Kenton Firehouse

8105 North Brandon St., Portland, OR 97217, 503-823-0215.

FOR FURTHER INFORMATION CONTACT: Christopher Cora, Remedial Project Manager, U.S. Environmental Protection Agency, Region 10, ECL-115, 1200 Sixth Avenue, Suite 900, Seattle, WA 98107, (206) 553-1478, email: cora.christopher@epa.gov.

SUPPLEMENTARY INFORMATION: The site to be deleted from the NPL is: Harbor Oil Superfund Site located at 11535 North Force Avenue in Portland, Oregon. A Notice of Intent to Delete for this Site was published in the Federal Register (79 FR 19037-19039) on April 7, 2014.

The closing date for comments on the Notice of Intent to Delete was May 16, 2014. No public comments were received. Since there were no comments, EPA is finalizing the deletion of the Site from the NPL. No responsiveness was prepared.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: May 27, 2014.
Dennis J. McLerran,
Regional Administrator.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B to Part 300—[Amended]

2. Table 1 of Appendix B to part 300 is amended by removing the entry for “OR”, “Harbor Oil”, “Portland”.

[FR Doc. 2014-13059 Filed 6-4-14; 8:45 am]

BILLING CODE 6560-50-P